DEPARTMENT OF TRANSPORTATION

Federal Aviation Administration

14 CFR Part 71

[Airspace Docket No. 00-ACE-31]

Amendment to Class E Airspace; Dexter, MO; Correction

AGENCY: Federal Aviation Administration, DOT.

ACTION: Direct final rule; confirmation of effective date and correction.

SUMMARY: This document confirms the effective date of a direct final rule which revises the Class E airspace at Dexter, MO, and corrects an error in the Class E airspace description as published in the Federal Register on September 29, 2000 (65 FR 58343), Airspace Docket No. 00-ACE-31.

EFFECTIVE DATE: 0901 UTC, January 25, 2001.

FOR FURTHER INFORMATION CONTACT: Brenda Mumper, Air Traffic Division, Operations and Airspace Branch, ACE-520A, DOT Regional Headquarters Building, Federal Aviation Administration, 901 Locust, Kansas City, MO 64106; telephone: (816) 329-2524.

SUPPLEMENTARY INFORMATION:

History

Federal Register Document 00-24933, Airspace Docket No. 00-ACE-31, published on September 29, 2000 (65 FR 58343) revised the description of the Dexter, MO, Class E airspace. An error was inadvertently made in describing the length of the airspace extension. This action corrects the error and confirms the effective date of the direct final rule. After careful review of all available information related to the subject presented above, the FAA has determined that air safety and the public interest require adoption of the rule. The FAA uses the direct final rulemaking procedure for a non-controversial rule where the FAA believes that there will be no adverse public comment. This direct final rule advised the public that no adverse comments were anticipated, and that unless a written adverse comment, or a written notice of intent to submit such an adverse comment, were received within the comment period, the regulation would become effective on January 25, 2001. No adverse comments were received, and thus this notice confirms that this direct final rule will become effective on that date.

Correction to the Direct Final Rule

Accordingly, pursuant to the authority delegated to me, the Dexter, MO, Class E airspace description as published in the Federal Register on September 29, 2000 (65 FR 58343), (Federal Register Document 00-24933; page 58344), column 3, is corrected as follows.

§ 71.1 [Corrected]

* * * * *

ACE MO E5 Dexter, MO [Corrected]

By removing “7.4 miles south of the NDB” and substituting “8 miles south of the NDB.”

* * * * *

Issued in Kansas City, MO on December 8, 2000.
Herman J. Lyons, Jr.,
Manager, Air Traffic Division, Central Region.

[FR Doc. 00-32514 Filed 12-20-00; 8:45 am]

BILLING CODE 4910-13-M